NATIONAL SCIENCE FOUNDATION

Early Career Doctorates Survey; Extension of Public Comment Period; Correction

AGENCY: National Science Foundation.

ACTION: Notification of extension of public comment period; correction.

SUMMARY: The National Science Foundation published a notice on April 12, 2013, at 78 FR 21979, seeking comments on establishing the Early Career Doctorates Survey. The document contained an incorrect date.

FOR FURTHER INFORMATION CONTACT: Please send comments to Suzanne H. Plimpton, Reports Clearance Officer, National Science Foundation, 4201 Wilson Boulevard, Suite 295, Arlington, Virginia 22230 or send email to splimpto@nsf.gov. Individuals who use a telecommunications device for the deaf (TDD) may call the Federal Information Relay Service (FIRS) at 1-800-877-8339, which is accessible 24 hours a day, 7 days a week, 365 days a year (including federal holidays).

Correction

In the Federal Register of April 12, 2013, in FR Doc. 2013-08619, on page 21979, in the third column, correct the Dates caption to read:

DATES: Comments on this notice will now be accepted until June 10, 2013.

Dated: April 12, 2013.
Suzanne H. Plimpton,
Reports Clearance Officer, National Science Foundation.

[FR Doc. 2013-09002 Filed 4-16-13; 8:45 am]

BILLING CODE 7555-01-P